DEPARTMENT OF LABOR

Notice of Debarment: Manheim, Inc.

AGENCY: Office of Federal Contract Compliance Programs, Labor.

ACTION: Notice.

SUMMARY: This notice advises of the debarment of Manheim, Inc., Manheim Auctions Government Services, LLC, and all wholesale vehicle remarketing facilities located in the United States which are owned, either directly or indirectly, by Manheim, Inc. (hereinafter referred to collectively as “Manheim Entities”), as eligible bidders on future Government contracts or extensions or substantive modifications of existing contracts, except as otherwise stated in the Consent Decree, the full terms of which are published below. The debarment is effective immediately.

FOR FURTHER INFORMATION CONTACT: Patricia A. Shiu, Director, Office of Federal Contract Compliance Programs, U.S. Department of Labor, 200 Constitution Ave., NW., Room C-3325, Washington, DC 20210 (202-693-1106).

SUPPLEMENTARY INFORMATION: On September 13, 2011, the United States Department of Labor's Administrative Review Board approved a Consent Decree, pursuant to Executive Order 11246 (“Executive Order”); section 503 of the Rehabilitation Act of 1973, as amended (“section 503”); section 4212 of the Vietnam Era Veterans' Readjustment Assistance Act (“VEVRAA”); and the rules and regulations issued pursuant thereto. Under the terms of the Consent Decree, the Manheim Entities and their officers, agents, employees and purchasers agree not to bid for, knowingly enter into, knowingly perform work, or knowingly provide services necessary to any future Government contracts or subcontracts, except as otherwise provided for in the Consent Decree below. Moreover, under the terms of the Consent Decree, the Manheim Entities and their officers, agents, employees and purchasers are debarred from receiving future contracts or subcontracts or extensions or substantive modifications of existing contracts or subcontracts. The debarment shall be lifted if Manheim satisfies the Director of OFCCP that it is in compliance with Executive Order, section 503, and the VEVRAA and their implementing regulations.

Dated: September 20, 2011, Washington, DC.
Les Jin,
Deputy Director, Office of Federal Contract Compliance Programs.

United States Department of Labor Administrative Review Board

Office of Federal Contract Compliance Programs, United States Department Of Labor, ARB Case No. 11-060 Plaintiff, ALJ Case No. 2011-OFC-00005. v. Manheim, Inc., and Manheim Auctions Government Services, LLC d/b/a Manheim Government Services, Defendants.

Amended Consent Decree

This Consent Decree is entered into between the Plaintiff, United States Department of Labor, Office of Federal Contract Compliance Programs (hereinafter “OFCCP”), and Defendants Manheim, Inc. f/k/a Manheim Auctions, Inc. (“Manheim”) and Manheim Auctions Government Services, LLC d/b/a Manheim Government Services (“MAGS”) (collectively, “Defendants”) in resolution of the Administrative Complaint filed by OFCCP pursuant to Executive Order 11246 (30 Fed. Reg. 12319), as amended by Executive Order 11375 (32 Fed. Reg. 14303) and Executive Order 12086 (43 FR 46501) (“Executive Order”); section 503 of the Rehabilitation Act of 1973, as amended, 29 U.S.C. 793 (“Rehabilitation Act” or “section 503”); section 4212 of the Vietnam Era Veterans' Readjustment Assistance Act, 38 U.S.C. 4212 (“VEVRAA”); and the rules and regulations issued pursuant thereto. The Administrative Complaint alleges that, at all times pertinent thereto, Defendant MAGS, a party to contracts with the General Services Administration (“GSA”) totaling more than $100,000, was a government contractor and that Defendant Manheim was a government contractor by virtue of its operation as a “single entity” with government contractor MAGS. The Administrative Complaint further alleges that both Defendants violated the Executive Order, the Rehabilitation Act, and the VEVRAA by refusing to permit OFCCP access to Manheim or MAGS's facilities and otherwise permit OFCCP to conduct and complete a compliance review of Manheim and MAGS.

Part A. General Provisions

1. The record on which this Amended Consent Decree (“Consent Decree”) is based shall consist of the Complaint and all exhibits to the Complaint, the Answers, and this Consent Decree.

2. As meant herein, the term “Manheim Auction Subsidiaries” shall mean all wholesale vehicle remarketing facilities located in the United States which are owned, either directly or indirectly, by Manheim.

3. This Consent Decree shall become final and effective on the date it is signed by the Administrative Review Board (“Effective Date”).

4. This Consent Decree shall be binding upon Defendants, any and all officers, agents, employees and purchasers of Defendants, and all Manheim Auction Subsidiaries, and shall have the same force and effect as an Order made after a full hearing. Defendants waive their right to a hearing.

5. All further procedural steps to contest the binding effect of the Consent Decree, and any right to challenge or contest the obligations entered into in accordance with the agreement contained in this Decree, are waived by the parties.

6. Subject to the performance by Defendants of all duties and obligations contained in this Consent Decree, all alleged violations identified in the Administrative Complaint shall be deemed fully resolved. Nothing herein shall be deemed an admission of wrongdoing, liability, or “single entity” status by Defendants.

Part B. Jurisdiction

7. This court has jurisdiction over this proceeding under sections 208 and 209 of the Executive Order, the Rehabilitation Act, the VEVRAA, 41 CFR 60-1.26, 60-741.65, 60-300.65, and 41 CFR part 60-30. Defendants admit to the jurisdiction of this Court over them regarding the subject matter of this action.

Part C. Specific Provisions

8. From the Effective Date of this Consent Decree, Defendants agree not to bid for, knowingly enter into, knowingly perform work, or knowingly provide services necessary to any future Government contracts or subcontracts, except as otherwise provided herein. By this agreement, Defendants are debarred from receiving future contracts or subcontracts or extensions or substantive modifications of existing contracts or subcontracts. In addition, no Federal agency may exercise any renewal option under an existing contract or subcontract listed at paragraph 9 below, unless the agency head determines that there is a compelling reason for such action pursuant to Federal Acquisition Regulation (“FAR”) 9.405-1(b), with the following exception: General Services Administration (“GSA”) Contract No. GS-30F-X0028 may, in the discretion of GSA, be renewed for one one-year or less Option Period after the expiration of the Base Period on September 30, 2011. The prohibitions in this paragraph shall be effective against Defendant MAGS, Defendant Manheim, and all Manheim Auction Subsidiaries located in the United States.

9. Defendants may continue to perform work only on the following existing contracts until the natural expiration of each contract, except as otherwise specified in paragraph 8, unless the agency head determines that there is a compelling reason for further renewal pursuant to FAR 9.405-1(b):

Army Air Force Exchange Service (AAFES)

Contract Number: HQ-08-SDZ-053

Expires September 27, 2011

General Services Administration (GSA)

Contract Number: GS-30F-X0028

Expires September 30, 2011

Worldwide Schedule for Logistics Services

Contract Number GS-10F-0013M

Expires September 30, 2011

United States Marshals Service (USMS)

E. District of Wisconsin

Contract Number: DJMS-08-D-0019

Expires February 29, 2012

United States Marshals Service (USMS)

E. District of Pennsylvania

Contract Number: DJMS-07-AFO-F-0008

Expires September 30, 2011

United States Marshals Service (USMS)

District of Puerto Rico

Contract Number: DJUSMS-11-0003

Expires December 31, 2011

United States Marshals Service (USMS)

N. District of Georgia

Contract Number: DJMS-07-AFO-F-0007

Expires September 30, 2011

United States Marshals Service (USMS)

Districts of Massachusetts, Maine, Rhode Island & New Hampshire

Contract Number: DJMS-09-D-0020

Expires May 31, 2012

United States Marshals Service (USMS)

Middle District of Florida

Contract Number: DJMS-05-D-0013

Expires December 31, 2011

United States Postal Service (USPS)

Contract Number: 1DVPMS-03-U-3941

Expires March 31, 2013

United States Department of the Navy

NAVFAC Hawaii, FSC Management and Facilities Services

Contract Number: N62478-08-D-2315

Expires March 31, 2012

United States Department of the Navy

NAVFAC Midwest Public Works Department

Contract Number: N40083-07-M-3003

Expires April 30, 2012

The Manheim Auction Subsidiaries may also perform services and/or provide facilities necessary to the Flynn-Jensen Company, LLC's subcontract with VSE Corp., Subcontract Number: VSE-TREAS-10-FJC, Prime Contract Number: TOS-11-C-001, or any renewals, extensions, substitutions, or modifications thereof, at the discretion of VSE and the Department of the Treasury, through and until December 31, 2011, but not thereafter. After December 31, 2011, unless and until the debarment described herein is lifted, no entity bound by this Consent Decree may perform services or provide goods necessary to any Government contract held, now or in the future, by the Flynn-Jensen Company, LLC.

10. Notice of this debarment shall be printed in the Federal Register on or after the Effective Date and shall include the full terms of this Consent Decree. In addition, on or after the Effective Date, OFCCP shall notify the Comptroller General of the United States (the “Government Accountability Office”) that Defendants, including all Manheim Auction Subsidiaries, are ineligible for the award of any Government contracts or subcontracts, except as otherwise provided herein.

Part D. Reinstatement

11. Neither Defendant shall be allowed to bid for, knowingly enter into, knowingly perform work, or knowingly provide services, goods, or facilities necessary to a Government contract or subcontract, except as otherwise provided herein, unless that Defendant (the “requesting Defendant”) or both of them (the “requesting Defendants”), if applicable, request reinstatement to federal contractor status and satisfy the Director of OFCCP that it or they are in compliance with the Executive Order, Section 503, VEVRAA and their implementing regulations. To do so, at a minimum, any requesting Defendant must submit to a full compliance review.

12. OFCCP shall initiate within 30 days a compliance review upon the request of the requesting Defendant(s), including any on-site compliance evaluations at such Defendant(s)' facility or facilities, as necessary to determine whether the requesting Defendant(s) is in compliance at the time of the request with the terms of this Consent Decree and the terms of the Executive Order, Section 503, VEVRAA, and their implementing regulations. OFCCP shall notify the requesting Defendant(s) in writing, within 30 days of its completion of the compliance review, if there is a deficiency or a finding of compliance.

13. If OFCCP finds that the requesting Defendant(s) has complied with the terms of this Consent Decree and with the terms of the Executive Order, Section 503, VEVRAA and their implementing regulations, the prohibitions in paragraph 8 above and otherwise herein shall be lifted as to the requesting Defendant(s), and such Defendant(s) shall be free to enter into future Government contracts and subcontracts. Within 30 days of OFCCP's finding of compliance (see paragraph 12 above), notice of the reinstatement shall be made to the Government Accountability Office, and notice of reinstatement shall be printed in the Federal Register.

14. If OFCCP finds that the requesting Defendant(s) has not complied with the terms of the Consent Decree or with the terms of the Executive Order, Section 503, VEVRAA and their implementing regulations, OFCCP will notify the requesting Defendant(s) within 30 days of its finding (see paragraph 12 above) that the prohibitions in paragraph 8 above and otherwise herein shall not be lifted and shall remain in effect until the requesting Defendant(s) successfully demonstrates compliance with the Consent Decree, the Executive Order, Section 503, VEVRAA and their implementing regulations. The requesting Defendant(s) may file a motion with the Administrative Law Judge for review of the Director's decision, and Defendants may request a hearing at which the sole issue will be whether the requesting Defendant(s) have complied with the terms of this Consent Decree and the Executive Order, Section 503, VEVRAA and their implementing regulations.

Part E. Implementation and Enforcement of the Decree

15. Jurisdiction, including the authority to issue any additional orders or decrees necessary to effectuate the implementation of the provisions of this Consent Decree, is retained by the Office of Administrative Law Judges for a period of 24 months from the date this Consent Decree becomes final. If any motion related to this Consent Decree is pending before the Office of Administrative Law Judges 24 months from the date this Consent Decree becomes final, jurisdiction shall continue beyond 24 months and until such time as the pending motion is finally resolved.

16. If an application or motion for an order of enforcement or clarification indicates by signature of counsel that the application or motion is unopposed by Plaintiff or Defendants, as appropriate, the application or motion may be presented to the Court without hearing and the proposed Order may be implemented immediately. If any party hereto opposes an application or motion, the party in opposition shall file a written response within twenty (20) days of service. The Office of Administrative Law Judges may, if it deems it appropriate, schedule an oral hearing on the application or motion.

17. The Agreement, herein set forth, is hereby approved and shall constitute the final Administrative Order in this case.

It is so ordered, this 13th day of September 2011.

PAUL M. IGASAKI,

Chief Administrative Appeals Judge Law Judge.

E. Cooper Brown,

Deputy Chief Administrative Appeals Judge.

SO AGREED.

ON BEHALF OF MANHEIM, INC. f/k/a MANHEIM AUCTIONS, INC. and MANHEIM AUCTIONS GOVERNMENT SERVICES, LLC d/b/a MANHEIM GOVERNMENT SERVICES:

By:

Jason S. McCarter.

Matthew T. Parrish, DOW LOHNES PLLC, Six Concourse Parkway, Suite 1800, Atlanta, Georgia 30328, (770) 901-8800, (770) 901-8874 (FAX). -and-

John C. Fox, FOX, WANG & MORGAN P.C., 160 West Santa Clara St., Suite 700, San Jose, California 95113, (408) 844-2350, (408) 844-2351 (FAX).

Attorneys for Defendants

SOL Case No. 10-04112

ON BEHALF OF THE OFFICE OF FEDERAL CONTRACT COMPLIANCE PROGRAMS:

M. PATRICIA SMITH, Solicitor of Labor

STANLEY E. KEEN, Regional Solicitor

CHANNAH S. BROYDE, Counsel

By:

LYDIA A. JONES

Attorney

Office of the Solicitor, U.S. Department of Labor, 61 Forsyth Street, S.W., Room 7T10, Atlanta, GA 30303, Telephone: (404) 302-5435, (404) 302-5438 (FAX).

Attorneys for the Secretary of Labor, United States Department of Labor.

[FR Doc. 2011-24810 Filed 9-26-11; 8:45 am]

BILLING CODE 4510-45-P